DEPARTMENT OF THE TREASURY

Internal Revenue Service

Open Meeting of the Taxpayer Advocacy Panel

ACTION: Notice.

SUMMARY: An open meeting of the Taxpayer Advocacy Panel will be held by teleconference.

DATES: The meeting will be held Tuesday, November 19, 2002, at 1:00 p.m. EST

FOR FURTHER INFORMATION CONTACT: Barbara Toy at 1-888-912-1227 or 414-297-1611.

SUPPLEMENTARY INFORMATION: Notice is hereby given pursuant to Section 10(a)(2) of the Federal Advisory Committee Act, 5 U.S.C. App. (1988) that an open meeting of the Taxpayer Advocacy Panel will be held Tuesday, November 19, 2002, from 1 to 2 pm. EST. If you would like to have the TAP consider a written statement or would like to attend the teleconference, please call 1-888-912-1227 or 414-297-1611, or write Barbara Toy, Taxpayer Advocacy Panel, 310 West Wisconsin MS 1006-MIL, Milwaukee, WI 53203-2221. Due to limited telephone lines, notification of intent to attend the meeting must be made with Barbara Toy.

The Agenda will include the following: monthly summary report, self-assessment report, getting started issues, and discussion of next meetings.

Note: Last minute changes to the agenda are possible and could prevent effective advance notice.

Dated: November 4, 2002.
John J. Mannion,
Direction Program Planning and Quality.

[FR Doc. 02-29389 Filed 11-19-02; 8:45 am]

BILLING CODE 4830-01-P